NATIONAL CREDIT UNION ADMINISTRATION

Sunshine Act; Meeting Notice

TIME AND DATE: 10:00 a.m., Thursday, May 16, 2013.

PLACE: Board Room, 7th Floor, Room 7047, 1775 Duke Street (All visitors must use Diagonal Road Entrance), Alexandria, VA 22314-3428.

STATUS: Open.

MATTERS TO BE CONSIDERED: 1. Board Briefing on Appraisals for Higher-Priced Mortgage Loans.

2. NCUA's Rules and Regulations, Technical Amendments.

3. NCUA's Rules and Regulations, Derivatives.

RECESS: 11:00 a.m.

TIME AND DATE: 11:15 a.m., Thursday, May 16, 2013.

PLACE: Board Room, 7th Floor, Room 7047, 1775 Duke Street, Alexandria, VA 22314-3428.

STATUS: Closed.

MATTERS TO BE CONSIDERED: 1. Consideration of Supervisory Activities (2). Closed pursuant to some or all of the following exemptions: (8), (9)(i)(B) and (9)(ii).

2. Appeal under NCUA's Rules and Regulations. Closed pursuant to Exemptions (6) and (8).

FOR FURTHER INFORMATION CONTACT: Mary Rupp, Secretary of the Board, Telephone: 703-518-6304

Mary Rupp,
Board Secretary.

[FR Doc. 2013-11429 Filed 5-10-13; 11:15 am]

BILLING CODE 7535-01-P